SECURITIES AND EXCHANGE COMMISSION

Sunshine Act Meeting

Federal Register CITATION OF PREVIOUS ANNOUNCEMENT: [to be published].

STATUS: Closed Meeting.

PLACE: 100 F Street NE., Washington, DC.

DATE AND TIME OF PREVIOUSLY ANNOUNCED MEETING: Friday, May 18, 2012 at 11:00 a.m.

CHANGE IN THE MEETING: Time Change.

The Closed Meeting scheduled for Friday, May 18, 2012 at 11:00 a.m. has been changed to Friday, May 18, 2012 at 3:00 p.m.

At times, changes in Commission priorities require alterations in the scheduling of meeting items. For further information and to ascertain what, if any, matters have been added, deleted or postponed, please contact the Office of the Secretary at (202) 551-5400.

Dated: May 18, 2012.
Elizabeth M. Murphy,
Secretary

[FR Doc. 2012-12528 Filed 5-18-12; 4:15 pm]

BILLING CODE 8011-01-P